FEDERAL HOUSING FINANCE BOARD

Sunshine Act Meeting Notice; Announcing a Partially Open Meeting of the Board of Directors

Time and Date: The open portion of the meeting of the Board of Directors is scheduled to begin at 10 a.m. on Wednesday, June 23, 2004. The closed portion of the meeting will follow immediately the open portion of the meeting.

PLACE: Board Room, Second Floor, Federal Housing Finance Board, 1777 F Street, NW., Washington, DC 20006.

Status: The first portion of the meeting will be open to the public. The final portion of the meeting will be closed to the public.

Matter To Be Considered at the Open Portion of Meeting: Final Rule Regarding Registration of Federal Home Loan Bank Securities. Consideration of a final rule to require each Federal Home Loan Bank to register a class of its securities with the Securities and Exchange Commission under the provisions of section 12(g) of the Securities Exchange Act of 1934.

Matter To Be Considered at the Closed Portion of Meeting: Periodic Update of Examination Program Development and Supervisory Findings.

CONTACT PERSON FOR MORE INFORMATION: Mary H. Gottlieb, Paralegal Specialist, Office of General Counsel, by telephone at 202/408-2826 or by electronic mail at gottliebm@fhfb.gov.

Dated: June 16, 2004.
By the Federal Housing Finance Board.
Mark J. Tenhundfeld,
General Counsel.

[FR Doc. 04-14030 Filed 6-16-04; 5:10 pm]

BILLING CODE 6725-01-P